DEPARTMENT OF TRANSPORTATION

Federal Aviation Administration

Notice of Intent to Rule on Request To Release Airport Property at the Boise Air Terminal, Boise, ID

AGENCY: Federal Aviation Administration (FAA), DOT.

ACTION: Notice of request to release airport property.

SUMMARY: The FAA proposes to rule and invite public comment on the release of land at Boise Air Terminal under the provisions of section.

DATES: Comments must be received on or before October 28, 2009.

ADDRESSES: Comments on this application may be mailed or delivered to the FAA at the following address: Ms. Carol Suomi, Manager, Seattle Airports District Office, Federal Aviation Administration, Northwest Mountain Region, Airports Division, 1601 Lind Ave SW., Suite 250 Renton, Washington 98057-3356.

FOR FURTHER INFORMATION CONTACT: Ms. Sandy Simmons, Idaho Airport Engineer, Project Manager Seattle Airports District Office, Federal Aviation Administration, Northwest Mountain Region, Airports Division, 1601 Lind Ave SW., Suite 250 Renton, Washington 98057-3356.

SUPPLEMENTARY INFORMATION: The FAA invites public comment on the request to release property at the Boise Air Terminal under the provisions of the AIR 21 (49 U.S.C. 47107 (h)(2)).

On September 10, 2009 the FAA determined that the request to release property at Boise Air Terminal submitted by the airport meets the procedural requirements of the Federal Aviation Administration. The FAA may approve the request, in whole or in part, no later than October 28, 2009.

The following is a brief overview of the request: Boise Air Terminal is proposing the release of approximately 10.157 acres of airport property to the Federal Highways Department of Transportation. This release is necessary in order to sell required Right of Way and Permanent Easement to the Idaho Transportation Department (ITD) for the 1-84/Orchard Street Interchange Project, an Eminent Domain project.

Any person may inspect, by appointment, the request in person at the FAA office listed above under FOR FURTHER INFORMATION CONTACT.

FOR FURTHER INFORMATION CONTACT: In addition, any person may, upon appointment and request, inspect application, notice and other documents germane to the application in person at the Boise Air Terminal.

Issued in Renton, Washington, September 10, 2009.
Carol A. Suomi,
Manager, Seattle Airports District Office, Northwest Mountain Region, Federal Aviation Administration.

[FR Doc. E9-23236 Filed 9-25-09; 8:45 am]

BILLING CODE M